DEPARTMENT OF COMMERCE

National Oceanic and Atmospheric Administration

[RTID 0648-XC361]

South Atlantic Fishery Management Council; Public Meetings

AGENCY: National Marine Fisheries Service (NMFS), National Oceanic and Atmospheric Administration (NOAA), Commerce.

ACTION: Notice of public meetings.

SUMMARY: The South Atlantic Fishery Management Council (Council) will hold a meeting of the Outreach and Communications Advisory Panel (AP) October 4-5, 2022, and a meeting of the Mackerel Cobia Advisory Panel October 5-6, 2022. The meetings will be held in Charleston, SC.

DATES: The Outreach and Communications AP meeting will be held October 4, 2022, from 1:30 p.m. until 5 p.m. and October 5, 2022, from 9 a.m. until 12 p.m. The Mackerel Cobia AP meeting will be held from 1:30 p.m. until 5 p.m. on October 5, 2022, and from 9 a.m. until 5 p.m. on October 6, 2022.

ADDRESSES:

Meeting address: The meetings will be held at the Town and Country Inn, 2008 Savannah Highway, Charleston, SC 29407; phone: (843) 766-9444.

Council address: South Atlantic Fishery Management Council, 4055 Faber Place Drive, Suite 201, N Charleston, SC 29405.

The meetings are open to the public and will also be available via webinar. Registration is required. Webinar registration, an online public comment form, and briefing book materials will be available two weeks prior to the meeting at: https://safmc.net/safmc-meetings/current-advisory-panel-meetings/.

FOR FURTHER INFORMATION CONTACT: Kim Iverson, Public Information Officer, SAFMC; phone: (843) 571-4366 or toll free: (866) SAFMC-10; fax: (843) 769-4520; email: kim.iverson@safmc.net.

SUPPLEMENTARY INFORMATION:

Outreach and Communications AP

Agenda items for the Outreach and Communications AP meeting include: an overview of the Council's new website and analytics, presentations on Best Fishing Practices outreach and communication efforts, an update on the Council's Citizen Science Program and projects, and discussion of outreach and communication tools and strategies. The AP will address other business as needed and provide recommendations for Council consideration.

Mackerel Cobia AP

Agenda items for the Mackerel Cobia AP meeting include: an update on amendments recently submitted to NOAA Fisheries, presentation and discussion of Southeast Data, Assessment, and Review (SEDAR) 78: Atlantic Spanish Mackerel stock assessment, review of the Coastal Migratory Pelagics (CMP) Fishery Management Plan's goals and objectives and CMP Amendment 33 (Gulf king mackerel), discussion of the commercial electronic logbook, presentation and discussion of the Hudson Canyon National Marine Sanctuary proposal, updates to the Fishery Performance Reports for Atlantic king mackerel and Florida east coast zone cobia, and updates on citizen science, SEDAR scheduling, and Climate Change Scenario Planning. The AP will address other business as needed and provide recommendations for Council consideration.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: September 9, 2022.
Rey Israel Marquez,
Acting Deputy Director, Office of Sustainable Fisheries, National Marine Fisheries Service.

[FR Doc. 2022-19845 Filed 9-13-22; 8:45 am]

BILLING CODE 3510-22-P